TENNESSEE VALLEY AUTHORITY

Meeting; Sunshine Act

AGENCY HOLDING THE MEETING: Tennessee Valley Authority (Meeting No. 09-05).

TIME AND DATE: 10 a.m. (EDT), August 20, 2009. TVA West Tower Auditorium, 400 West Summit Hill Drive, Knoxville, Tennessee.

Status: Open.

Agenda

Old Business

Approval of minutes of June 4 and July 21, 2009, Board Meetings.

New Business

1. Chairman's Report.

2. President's Report.

3. Report of the Finance, Strategy, Rates, and Administration Committee.

A. Fiscal Year 2010 Budget.

B. Rate Adjustment, including FCA Formula Revision.

C. Fiscal Year 2010 Bond Issuance Authorization.

D. Financial Trading Program Authorization.

E. Customer Issues.

i. Seasonal Pricing Programs.

ii. Interruptible Standby Power.

F. Policy on Renewable Portfolio Compliance.

4. Report of the Operations, Environment, and Safety Committee.

A. Kingston Progress Report.

B. Coal Combustion Products Remediation Plan.

C. Spent Fuel Claim Process.

5. Report of the Audit, Governance, and Ethics Committee.

A. Systems, Standards, Controls, and Culture Remediation Plan.

6. Report of the Community Relations and Energy Efficiency Committee.

A. Gee Creek Easement.

B. Land Plan Administrative Corrections.

C. Termination of Maintain and Gain Policy.

D. Kingston Area Economic Development.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: August 13, 2009.
Maureen H. Dunn,
General Counsel and Secretary.

[FR Doc. E9-19834 Filed 8-14-09; 11:15 am]

BILLING CODE 8120-08-P